DEPARTMENT OF LABOR

Employment and Training Administration

[TA-W-41,020]

Phelps Dodge Hidalgo Inc., Playas, NM; Notice of Termination of Investigation

Pursuant to section 221 of the Trade Act of 1974, an investigation was initiated on March 11, 2002, in response to a petition filed by the company on behalf of workers at Phelps Dodge Hidalgo, Inc., Hidalgo, Playas, New Mexico.

The petition has been deemed invalid. There are three signatures on the petition, but no petitioner information was provided which includes name, address, telephone, and the date of separation. Consequently, further investigation in this case would serve no purpose, and the investigation has been terminated.

Signed at Washington, DC, this 28th day of June, 2002.
Curtis K. Kooser,
Certifying Officer, Division of Trade Adjustment Assistance.

[FR Doc. 02-17136 Filed 7-8-02; 8:45 am]

BILLING CODE 4510-30-P